DEPARTMENT OF ENERGY

Federal Energy Regulatory Commission

18 CFR Part 35

[Docket Nos. RM07-19-000 and AD07-7-000]

Wholesale Competition in Regions With Organized Electric Markets; Notice of Extension of Comment Date

June 22, 2007.

AGENCY: Federal Energy Regulatory Commission, DOE.

ACTION: Advance notice of proposed rulemaking: Extension of comment date.

SUMMARY: On June 22, 2007, The Federal Energy Regulatory Commission (Commission) is issuing an Advance Notice of Proposed Rulemaking (ANOPR) with regard to potential reforms to improve the operation of organized wholesale electric markets. 72 FR 36,275 (July 2, 2007). The Commission is extending the date for filing comments on the ANOPR at the request of interested parties.

DATES: Comments on this ANOPR are now due on September 14, 2007.

ADDRESSES: You may submit comments identified by Docket Nos. RM07-19-000 and AD07-7-000 by one of the following methods:

• Agency Web Site: http://www.ferc.gov. Follow the instructions for submitting comments via the eFiling link found in the Comment Procedures section of the ANOPR.

• Mail: Commenters unable to file comments electronically must mail or hand deliver an original and 14 copies of their comments to the Federal Energy Regulatory Commission, Secretary of the Commission, 888 First Street, NE., Washington, DC 20426. Please refer to the Comment Procedures section of the June 22, 2007 ANOPR for additional information on how to file paper comments.

FOR FUTHER INF0RMATION CONTACT: David Kathan (Technical Information), Office of Energy Markets and Reliability, Federal Energy Regulatory Commission, 888 First Street, NE., Washington, DC 200426, David.Kathan@ferc.gov, (202) 502-6404. Elizabeth Rylander (Legal Information), Office of the General Counsel, Federal Energy Regulatory Commission, 888 First Street, NE., Washington, DC 20426, Elizabeth.Rylander@ferc.gov, (202) 502-8466.

SUPPLEMENTARY INFORMATION:

Notice of Extension of Time

July 27, 2007.

On July 23, 2007, the American Public Power Association, the Edison Electric Institute, the Electric Power Supply Association, the ISO/RTO Council, the Large Public Power Council, the National Association of Regulatory Utility Commissioners, the National Rural Electric Cooperative Association, the Organization of MISO States, and the Transmission Access Policy Study Group (collectively, “the Joint Movants”) filed a motion requesting an extension of time until September 14, 2007 to file comments in response to the Advance Notice of Proposed Rulemaking issued June 22, 2007, in the above-referenced proceeding. Wholesale Competition in Regions with Organized Electric Markets, 72 FR 36,275 (July 2, 2007), FERC Stats. & Regs. ¶ 32,617 (2007) (June 22 ANOPR). The Joint Movants state that they need additional time to conduct member company consultations and to prepare reasoned comments in this docket. On July 25, 2007, the California Public Utilities Commission filed an answer supporting the Joint Movants' request for additional time.

On July 25, 2007, Central Hudson Gas & Electric Company, Consolidated Edison Company of New York, Inc., LIPA, New York Power Authority, New York State Electric & Gas Corporation, Orange and Rockland Utilities, Inc. and Rochester Gas and Electric Company (collectively, the “New York Transmission Owners”) filed a similar motion, which also requests an extension of the comment date until September 14, 2007. The New York Transmission Owners state that additional time will allow them to provide the Commission with more meaningful and substantive comments than would be possible under the current time constraints.

Upon consideration, notice is hereby given that an extension of time for filing comments on the June 22 ANOPR is granted, to and including September 14, 2007.

Kimberly D. Bose,
Secretary.

[FR Doc. E7-15276 Filed 8-7-07; 8:45 am]

BILLING CODE 6717-01-P